DEPARTMENT OF COMMERCE

International Trade Administration

[A-469-007]

Potassium Permanganate From Spain: Notice of Amended Final Results of Antidumping Duty Administrative Review Pursuant to Final Court Decision

AGENCY: Import Administration, International Trade Administration, Department of Commerce.

ACTION: Notice of amended final results of antidumping duty administrative review pursuant to final court decision

SUMMARY: On February 28, 1992, the United States Court of International Trade (CIT) affirmed the remand determination of the Department of Commerce (the Department) of the final results of the antidumping duty administrative review on potassium permanganate from Spain for the period of review, January 1, 1986 to December 31, 1986. In order to give effect to this final and conclusive decision, we are amending our final results retroactively.

EFFECTIVE DATE: September 10, 2001.

FOR FURTHER INFORMATION CONTACT: Jack K. Dulberger, Import Administration, International Trade Administration, U.S. Department of Commerce, 14th Street and Constitution Avenue, NW., Washington, DC 20230; telephone: (202) 482-5505.

SUPPLEMENTARY INFORMATION:

Background

On June 8, 1988, the Department published in the Federal Register a notice of final results of antidumping duty administrative review on potassium permanganate from Spain See Notice of Final Results of Antidumping Duty Administrative Review on Potassium Permanganate from Spain, 53 FR 21504 (June 8, 1988) (Final Results). Industria Quimica del Nalon (IQN), (formerly known as Asturquimica), the sole respondent in this case, subsequently appealed the Department's determination before the CIT on the following three issues: (1) Whether to allow home market technical services and invoice processing expense adjustments; (2) whether to allow a currency conversion adjustment (i.e., for Spanish currency appreciation during the POR, under 19 CFR 353.60 (b)); and (3) whether to allow a home market tax rebate adjustment. On December 21, 1989, the CIT directed the Department to grant a tax rebate adjustment. See Industria Quimica del Nalon v. United States, Slip Op. 89-174 (December 21, 1989). On May 24, 1991 the court again remanded the above-referenced proceeding to the Department. In its opinion, the court directed the Department to grant the respondent technical services and invoice processing expense adjustments. See Industria Quimica del Nalon v. United States, Slip Op. 91-43 (CIT, May 24, 1991).¹

¹ In its opinion, the CIT also upheld the Department's denial of a currency rate adjustment. See Industria Quimica del Nalon v. United States, Slip Op. 91-43 (CIT, May 24, 1991).

On September 9, 1991, the Department filed with the court its final results of redetermination in which the dumping margin calculation reflected the adjustments for the tax rebate and certain technical services and invoice processing expenses. See Memorandum for Eric I. Garfinkel, Assistant Secretary from Joseph A. Spetrini, Deputy Assistant Secretary: Remand Results—Industria Quimica del Nalon v. United States concerning Potassium Permanganate from Spain, (September 9, 1991)(Public Version). On February 28, 1992, the CIT affirmed the Department's remand results. See Industria Quimica del Nalon v. United States, Slip Op. 92-17 (CIT, February 28, 1992). On May 17, 1993, the court issued a final and conclusive decision dismissing the case. See Industria Quimica del Nalon v. United States, Slip Op. 92-17 (May 17, 1993). This decision was not appealed and has now become final and conclusive.

As a result of these proceedings, the dumping margin for IQN changed to 5.53 percent. We are amending the Final Results for the period January 1, 1986 to December 31, 1986 now as notice of this change was inadvertently not published earlier.

As a result of the remand determination, the final dumping margin is as follows:

Manufacturer: IQN

Margin (Percent): 5.53

The “All Others Rate” was not affected by the Final Results of Redetermination.

Accordingly, the Department will determine and the United States Customs Service will assess, antidumping duties on all entries of subject merchandise from IQN during the review period in question in accordance with these amended final results. This notice is issued and published in accordance with section 751(a)(1) of the Tariff Act (19 USC 1675(a)(1) and 19 CFR 351.221).

Dated: August 31. 2001.
Bernard T. Carreau,
Acting Assistant Secretary for Import Administration.

[FR Doc. 01-22654 Filed 9-7-01; 8:45 am]

BILLING CODE 3510-DS-P